SECURITIES AND EXCHANGE COMMISSION

[File No. 1-13776]

Issuer Delisting; Notice of Application To Withdraw From Listing and Registration (GreenMan Technologies, Inc., Common Stock, $.01 Par Value) From the Boston Stock Exchange, Inc.

October 17, 2002.

GreenMan Technologies, Inc., a Delaware corporation (“Issuer”), has filed an application with the Securities and Exchange Commission (“Commission”), pursuant to Section 12(d) of the Securities Exchange Act of 1934 (“Act”) ¹ and Rule 12d2-2(d) thereunder,² to withdraw its Common Stock, $.01 par value (“Security”), from listing and registration on the Boston Stock Exchange, Inc. (“BSE” or “Exchange”).

¹ 15 U.S.C. 78l(d).

² 17 CFR 240.12d2-2(d).

The Issuer stated in its application that it has complied with the Rules of the BSE that govern the removal of securities from listing and registration on the Exchange. In making the decision to withdraw the Security from listing and registration on the BSE, the Issuer states that the Security began trading on the American Stock Exchange LLC (“Amex”) on September 20, 2002, and that during the last seven years, there has been no trading activity in the Security on the BSE.

The Issuer's application relates solely to the Security's withdrawal from listing on the BSE and shall not affect its listing on the Amex or its obligation to be registered under Section 12(b) of the Act.³

³ 15 U.S.C. 78l(b).

Any interested person may, on or before November 7, 2002, submit by letter to the Secretary of the Securities and Exchange Commission, 450 Fifth Street, NW., Washington, DC 20549-0609, facts bearing upon whether the application has been made in accordance with the rules of the BSE and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 02-26928 Filed 10-22-02; 8:45 am]

BILLING CODE 8010-01-P